FEDERAL ELECTION COMMISSION

Sunshine Act Meeting

AGENCY: Federal Election Commission.

DATE AND TIME: Tuesday, March 15, 2016 at 10:00 a.m. and Wednesday, March 16, 2016 at the conclusion of the Open Meeting.

PLACE: 999 E Street NW., Washington, DC.

STATUS: This meeting will be closed to the public.

Federal Register notice of previous announcement—81 FR 12731.

CHANGE IN THE MEETING: This meeting was continued on April 12, 2016.

PERSON TO CONTACT FOR INFORMATION: Judith Ingram, Press Officer, Telephone: (202) 694-1220.

Shelley E. Garr,
Deputy Secretary.

[FR Doc. 2016-09035 Filed 4-14-16; 4:15 pm]

BILLING CODE 6715-01-P